DEPARTMENT OF HEALTH AND HUMAN SERVCES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed project or to obtain a copy of the information collection plans, call the SAMHSA Reports Clearance Officer on (240) 276-1243.

Comments are invited on: (a) Whether the proposed collection of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project Behavioral Health Information Technologies Survey—NEW

The Substance Abuse and Mental Health Services Administration (SAMHSA) Center for Substance Abuse Treatment (CSAT) and Center for Behavioral Health Statistics and Quality (CBHSQ) are proposing a survey to assess health information technology (HIT) adoption among SAMHSA grantees. As part of its Strategic Initiative to advance the use of health information technologies to support integrated behavioral health care, SAMHSA has been working to develop a survey instrument that will examine the status of and plans for HIT adoption by behavioral health service providers who are implementing SAMHSA grant programs. The selected programs are funded by the by the Center for Mental Health Services (CMHS), the Center for Substance Abuse Prevention (CSAP), and (CSAT).

This project seeks to acquire baseline data necessary to inform the Agency's strategic initiative that focuses on fostering the adoption of HIT in community behavioral health services. The survey of SAMHSA grantees regarding their access to and use of health information technology will provide valuable information that will inform the behavioral HIT literature.

Approval of this data collection by the Office of Management and Budget (OMB) will allow SAMHSA to identify the current status of HIT adoption and use among a diverse group of grantees. Data from the survey will allow SAMHSA to enhance the HIT-related programmatic activities among its grantees by providing data on how HIT facilitates the implementation of different types of SAMHSA grants, thereby fostering the appropriate adoption of HIT within SAMSHA-funded programs.

The survey will collect data once, providing a snapshot view of the current state of HIT adoption. The proposed participant pool is comprised of SAMHSA grantee program leadership who are willing to provide the assistance needed to ensure a high rate of response. Awardees from nine different SAMHSA programs drawn from CMHS, CSAT, and CSAP comprise the pool of survey participants.

The survey mode for data collection will be web-based with embedded skip logic for respondents to avoid questions that are not applicable to them. The minimum amount of time for a respondent to complete the survey is 20 minutes, with respondents who do not skip items taking a maximum of 30 minutes for completion. The total estimated respondent burden is 149.6 hours.

The following table summarizes the estimated response burden.

Type of grantee or respondent | Number of respondents | Number of responses annually per respondent | Total responses | Average hours per response | Total burden hours
Screening, Brief Intervention, and Referral to Treatment (SBIRT) | 18 | 1 | 18 | .4 | 7.2
Targeted Capacity Expansion-Targeted Assisted Care | 17 | 1 | 17 | .4 | 6.8
Offender Re-entry Program | 13 | 1 | 13 | .4 | 5.2
Primary Behavioral Health Care Integration (PBHCI) | 89 | 1 | 89 | .4 | 35.6
National Child Traumatic Stress Initiative (NCTSI) | 56 | 1 | 56 | .4 | 22.4
Suicide Lifeline Crisis Center Follow-up | 12 | 1 | 12 | .4 | 4.8
Garret Lee Smith Youth Suicide Prevention Program | 56 | 1 | 56 | .4 | 22.4
Minority AIDS Initiative | 113 | 1 | 113 | .4 | 45.2
Total | 374 |  | 374 |  | 149.6

Send comments to Summer King, SAMHSA Reports Clearance Officer, Room 2-1057, One Choke Cherry Road, Rockville, MD 20857 or email her a copy at summer.king@samhsa.hhs.gov. Written comments should be received by May 18, 2015.

Summer King,
Statistician.

[FR Doc. 2015-06038 Filed 3-16-15; 8:45 am]

BILLING CODE 4162-20-P